POSTAL SERVICE

39 CFR Part 111

Address Correction Notices IMpb

AGENCY: Postal Service™.

ACTION: Final rule.

SUMMARY: The Postal Service is amending Mailing Standards of the United States Postal Service, Domestic Mail Manual (DMM®) in various sections to remove the hardcopy address correction notice option for all packages bearing an Intelligent Mail® package barcode (IMpb®).

DATES: Effective: March 5, 2025.

FOR FURTHER INFORMATION CONTACT: Michelle Evans at (901) 681-4474 or Garry Rodriguez at (202) 268-7281.

SUPPLEMENTARY INFORMATION: On August 6, 2024, the Postal Service published a notice of proposed rulemaking (89 FR 63850-63851) to remove the option to request PS Forms 3547, Notice to Mailer of Correction in Address, and PS Form 3579, Notice of Undeliverable Periodical, for packages with an IMpb. In response to the proposed rule, the Postal Service received one formal response containing two comments. The commenter asked if a customer does not register for Electronic Service Requested and leaves Change Service Requested on their shipping label, how will the package be treated and then had two questions as follows:

Comment: The first comment questioned whether packages with Change Service Requested will be just disposed of?

Response: Yes, Change Service Requested will cause packages that are undeliverable as addressed (UAA) to be disposed of by USPS.

Comment: The second comment questioned if packages not having an endorsement would be treated as Forwarding Service Requested?

Response: No, the disposition of the package will be based on the printed endorsement when present, however a separate notice, when applicable, would not be generated unless the Mailer ID (MID) in the IMpb is enrolled to generate ACS. Following is a general list of how the package would be handle based on the printed endorsement:

• Change Service Requested—If UAA, piece disposed of by USPS with no separate notice provided, unless the MID in the IMpb is enrolled to generate ACS.

• Address Service Requested—If UAA, piece forwarded or returned with no separate notice provided, unless the MID in the IMpb is enrolled to generate ACS.

• Forwarding Service Requested—If UAA, piece is either forwarded or returned.

• Return Service Requested—If UAA, piece returned to sender with new address or reason for nondelivery attached.

• No Endorsement—If UAA, default treatment is based on the mail class.

The Postal Service is requiring IMpb mailers that desire address correction information from undeliverable as addressed (UAA) mail to receive address correction notices electronically via Address Change Service (ACS). IMpb mailers will have to sign up for IMpb ACS or Traditional ACS.

The Postal Service is implementing this change effective March 5, 2025. However, mailers may begin to request ACS immediately. We believe this revision will provide customers with more efficient and less costly address correction notices.

Resources

The Postal Service provides additional resources to assist customers with this price change for competitive products. These tools include price lists, downloadable price files, and Federal Register Notices, which may be found on the Postal Explorer® website at https://pe.usps.com.

The Postal Service adopts the described changes to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations as follows (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise Mailing Standards of the United States Postal Service, Domestic Mail Manual (DMM) as follows:

Mailing Standards of the United States Postal Service, Domestic Mail Manual (DMM)

* * * * *

200 Commercial Letters, Cards, Flats, and Parcels

* * * * *

204 Barcode Standards

* * * * *

2.0 Standards for Package and Extra Service Barcodes

2.1 Intelligent Mail Package Barcode

2.1.1 Definition

* * * * *

[Revise 2.1 by adding a new 2.1.14 to read as follows:]

2.1.14 IMpb with Ancillary Services

When certain ancillary services are used to receive separate address corrections for forwarded parcels, shippers that apply an IMpb to their parcels must request ACS under 507.4.1.5.

* * * * *

500 Additional Mailing Services

* * * * *

507 Mailer Services

1.0 Treatment of Mail

* * * * *

1.5 Treatment for Ancillary Services by Class of Mail

1.5.1 First-Class Mail, USPS Ground Advantage—Retail, USPS Ground Advantage—Commercial, and Priority Mail

Undeliverable-as-addressed First-Class Mail (including postcards), USPS Ground Advantage—Retail, USPS Ground Advantage—Commercial, and Priority Mail pieces are treated under Exhibit 1.5.1 with these additional conditions:

* * * * *

[Revise the introductory text of item f to read as follows:]

f. Address Change Service (ACS) under 4.0 is available for First-Class Mail, USPS Ground Advantage—Retail, USPS Ground Advantage—Commercial, and Priority Mail pieces with the ACS participant code for an authorized ACS participant and a valid ancillary service endorsement. Mailers participating in OneCode ACS under 4.2.6 that print an Intelligent Mail barcode on First-Class Mail automation letters may omit the participant code and endorsement. Parcel shippers must use either IMpb ACS or apply an ACS participant code to receive separate address corrections. The only endorsements permitted on First-Class Mail, USPS Ground Advantage—Retail, USPS Ground Advantage—Commercial and Priority Mail valid ACS pieces are “Address Service Requested”, “Change Service Requested” or “Electronic Service Requested” subject to the following:

* * * * *

1.5.2 Periodicals

Undeliverable-as-addressed (UAA) Periodicals publications (including publications pending Periodicals authorization) are treated as described in Exhibit 1.5.2, with these additional conditions:

[Revise item a by adding a new last sentence to read as follows:]

a. * * * Parcel shippers must use either IMpb ACS or apply an ACS participant code to receive separate address corrections.

* * * * *

1.5.3 USPS Marketing Mail

Undeliverable-as-addressed (UAA) USPS Marketing Mail pieces are treated as described in Exhibit 1.5.3, with these additional conditions:

* * * * *

[Revise the text of item f by adding a new last sentence to read as follows:]

f. * * * Parcel shippers must use either IMpb ACS or apply an ACS participant code when separate address corrections are requested.

* * * * *

1.5.4 Package Services and Parcel Select

Undeliverable-as-addressed (UAA) Package Services and Parcel Select mailpieces are treated as described in Exhibit 1.5.4, with these additional conditions:

[Revise the text of item a by adding a new last sentence to read as follows:]

a. * * * Parcel shippers must use either use IMpb ACS or apply an ACS participant code when separate address corrections are requested.

* * * * *

4.0 Address Correction Services

4.1 Address Correction Service

* * * * *

4.1.5 Other Classes

[Revise the third sentence and add a new fourth and fifth sentence of 4.1.5 to read as follows:]

* * * Except for Full-Service and Seamless acceptance mailings, when separate corrections are necessary for First-Class Mail and USPS Marketing Mail, Form 3547 is mailed to the sender with the address correction fee charged and the mail is forwarded. When separate address corrections are necessary for forwarded parcels, shippers that apply the IMpb to their parcels must request ACS and an electronic address correction notice via ACS is provided to the participant and the electronic address correction fee will be charged. There are two versions of ACS available to parcel shippers, IMpb ACS or Traditional ACS.* * *

* * * * *

Christopher Doyle,
Attorney, Ethics and Legal Compliance.

[FR Doc. 2024-22086 Filed 9-27-24; 8:45 am]

BILLING CODE 7710-12-P